DEPARTMENT OF ENERGY

Federal Energy Regulatory Commission

[Docket No. RP00-461-003]

Western Gas Interstate Company; Notice of Compliance Filing

October 9, 2003.

Take notice that on October 7, 2003, Western Gas Interstate Company (WGI), tendered for filing as part of its FERC Gas Tariff, Fourth Revised Volume No. 1, the following tariff sheets in compliance with the Commission's September 17, 2003 Order in this proceeding. The proposed effective date of the tariff sheets is November 1, 2003.

Substitute First Revised Sheet No. 230B

Sixth Revised Sheet No. 247

WGI states that the purpose of the filing is to: (1) Eliminate certain duplicative tariff language found on both Sheet Nos. 230B and 230C; and (2) incorporate various standards adopted by the North American Energy Standards Board for Title Transfer Tracking, netting and trading, and e-mail notification.

WGI states that copies of this filing were served on its customers and interested state commissions.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. This filing is available for review at the Commission in the Public Reference Room or may be viewed on the Commission's Web site at http://www.ferc.gov using the eLibrary link. Enter the docket number excluding the last three digits in the docket number field to access the document. For assistance, please contact FERC Online Support at FERCOnlineSupport@ferc.gov or toll-free at (866) 208-3676, or TTY, contact (202) 502-8659. The Commission strongly encourages electronic filings. See, 18 CFR 385.2001(a)(1)(iii) and the instructions on the Commission's Web site under the e-Filing link.

Protest Date: October 20, 2003.

Magalie R. Salas,
Secretary.

[FR Doc. E3-00265 Filed 11-14-03; 8:45 am]

BILLING CODE 6717-01-P